DEPARTMENT OF DEFENSE

Office of the Secretary

Notice of Availability of the Final Environmental Impact Statement for the Long Range Discrimination Radar Operations at Clear Air Force Station, Alaska

AGENCY: Missile Defense Agency, Department of Defense (DoD).

ACTION: Notice of availability.

SUMMARY: The Missile Defense Agency (MDA), as the lead agency, announces the availability of the Final Environmental Impact Statement (EIS) for the Long Range Discrimination Radar (LRDR) located at Clear Air Force Station (CAFS), Alaska. The Federal Aviation Administration (FAA) and the Department of the Air Force (DAF) are cooperating agencies to this Final EIS.

DATES: MDA will not issue a final decision on the proposed action for a minimum of 30 days after the date that the United States Environmental Protection Agency (USEPA) publishes its Notice of Availability (NOA) in the Federal Register.

FOR FURTHER INFORMATION CONTACT: Mr. Ryan Keith, MDA Public Affairs, at 256-450-1599 or by email: lrdr.info@mda.mil. The Final EIS for the Long Range Discrimination Radar Operations at Clear Air Force Station, Alaska is available online at the MDA's website at: https://www.mda.mil/system/lrdr.

SUPPLEMENTARY INFORMATION: The Department of Defense's NOA (85 FR 68314) for the Draft EIS was published in the Federal Register on October 28, 2020, and the USEPA's NOA (ER-FRL-9053-6) for the Draft EIS was published in the Federal Register on October 30, 2020, which provided notice that the Draft EIS was available for comment from October 30, 2020 to December 21, 2020.

MDA hosted a telephone public meeting, December 2, 2020, and an online open house to share information about the proposed action and alternatives and allow the public to provide comments and ask questions. Additionally, the public was able to submit comments by facsimile, postal mail, or via a project email address. MDA received comments on the Draft EIS from ten individuals or organizations, one of which commented twice. Commenters requested changes to the proposed Restricted Areas, more information about communication methods if Restricted Areas are activated at unscheduled times, and mitigation for climate change and air quality. Comments on the Draft EIS were considered and incorporated as appropriate into the Final EIS. Comments resulted in the addition of clarifying text and an update to the impacts to airspace based on information presented during the FAA Safety Risk Management Panel's analysis. However, these changes did not significantly change the alternatives or analysis presented in the EIS.

Background: In response to the Congressional mandate to deploy the LRDR, MDA completed a siting analysis for the LRDR, which selected CAFS out of 50 candidate Department of Defense installations in Alaska. In June 2016, MDA and DAF prepared an Environmental Assessment (EA), to evaluate the potential environmental impacts associated with the construction and operation of the LRDR at CAFS. The 2016 EA resulted in a Finding of No Significant Impact, and construction of the LRDR began in July 2017.

Since that time, due to emerging threats, MDA proposes to modify the LRDR operational requirements and procedures to reflect continuous operations. Due to the proposed changes to LRDR operations, airspace restrictions at CAFS are necessary to ensure that aircraft would not encounter high intensity radiation fields (HIRF) resulting from the LRDR operations that exceed FAA's HIRF certification standards for aircraft electrical and electronic systems. The proposed airspace restrictions include expanding the existing Restricted Area (R-2206) at CAFS by adding six new Restricted Areas. The preferred alternative is to operate the LRDR continuously under the changed operational concept and to implement the associated proposed airspace restrictions as described in the Proposed Action analyzed in the Final EIS.

The EIS also analyzes the No Action Alternative. Under the No Action Alternative, the LRDR would be operated in a manner that would contain HIRF within existing R-2206 such that no new actions would need to be taken to limit aircraft flight. The Final EIS analyzes the environmental effects of the Proposed Action and No Action Alternative in the following environmental resource areas: Airspace management; air quality; biological resources; climate; hazardous materials; solid waste and pollution prevention; historical, architectural, archaeological, and cultural resources; land use; natural resources and energy supply; noise and compatible land use; safety; socioeconomics and environmental justice; subsistence; visual effects; and water resources. The Final EIS was prepared in accordance with the National Environmental Policy Act (NEPA) of 1969; the Council on Environmental Quality Regulations for Implementing the Procedural Provisions of NEPA; MDA's NEPA Implementing Procedures; DAF Environmental Impact Analysis Process; and FAA's NEPA Policies and Procedures.

Dated: May 4, 2021.
Aaron T. Siegel,
Alternate OSD Federal Register Liaison Officer, Department of Defense.

[FR Doc. 2021-09701 Filed 5-6-21; 8:45 am]

BILLING CODE 5001-06-P